DEPARTMENT OF THE INTERIOR

Bureau of Indian Affairs

[120A2100DD/AABB003600/A0T902020.999900.253G]

Comanche Nation; Amendment to Liquor Control Ordinance

AGENCY: Bureau of Indian Affairs, Interior.

ACTION: Notice.

SUMMARY: This notice publishes the amendment to the Comanche Indian Tribe Liquor Control Ordinance. The liquor control ordinance regulates and controls the possession, sale, manufacture, and distribution of alcohol on Comanche trust lands in conformity with the laws of the State of Oklahoma where applicable and necessary. Although the amendment was adopted on August 3, 2019, it does not become effective until published in the Federal Register.

DATES: This ordinance shall be applicable on March 23, 2020.

FOR FURTHER INFORMATION CONTACT: Ms. Sherry Lovin, Tribal Government Officer, Southern Plains Regional Office, Bureau of Indian Affairs, Post Box 368, Anadarko, Oklahoma 73005, Telephone: (405) 247-1534 or (405) 247-6673, Fax: (405) 247-1534; or Ms. Laurel Iron Cloud, Chief, Division of Tribal Government Services, Office of Indian Services, Bureau of Indian Affairs, 1849 C Street NW, MS-4513-MIB, Washington, DC 20240, Telephone: (202) 513-7641.

SUPPLEMENTARY INFORMATION: Pursuant to the Act of August 15, 1953, Public Law 83-277, 67 Stat. 586, 18 U.S.C. 1161, as interpreted by the Supreme Court in Rice v. Rehner, 463 U.S. 713 (1983), the Secretary of the Interior shall certify and publish in the Federal Register notice of adopted liquor control ordinances for the purpose of regulating liquor transactions in Indian country. On April 7, 2001, the Comanche Business Committee duly adopted the Comanche Indian Tribe Liquor Control Ordinance. The Comanche Tribe Liquor Control Ordinance was published in the Federal Register on October 25, 2001 at 66 FR 54022. On May 17, 2018, the Comanche Business Committee duly adopted an amendment to the Comanche Indian Tribe Liquor Control Ordinance which became effective July 19, 2019. The Amendment to the Comanche Tribe Liquor Control Ordinance was published in the Federal Register on June 19, 2019 at 84 FR 28580.

This notice is published in accordance with the delegated authority by the Secretary of the Interior to the Assistant Secretary—Indian Affairs. I certify that the Comanche Nation Business Committee duly adopted the amendment to the Comanche Tribe Liquor Control Ordinance by Resolution 113-19 on August 3, 2019.

Dated: February 4, 2020.
Tara Sweeney,
Assistant Secretary—Indian Affairs.

The Comanche Indian Tribe's Amended Liquor Control Ordinance shall read as follows:

The Comanche Indian Tribe Liquor Control Ordinance, Article VI. Licensing and Application, Section (2), as amended, shall read as follows:

(2) Application. Any person, eighteen (18) years of age and older, whether an enrolled member of the Comanche Tribe or another federally-recognized tribe or whether a non-member, may apply to the Liquor Control Board for a license to serve liquor. Any person, twenty-one (21) years of age and older, whether an enrolled member of the Comanche Tribe or another federally-recognized tribe or whether a non-member, may apply to the Liquor Control Board for a license to sell liquor.

Any person or entity applying for a license to sell or serve liquor within Comanche Indian Country must fill in the application provided for this purpose by the Comanche Indian Tribe and pay such application fee as may be set from time to time by the Business Committee. Said application must be filled out completely in order to be considered. A separate application and license will be required for each location where the applicant intends to serve liquor. No provision of this section shall be construed to permit any person under twenty-one (21) years of age to obtain a license to sell liquor.

[FR Doc. 2020-03430 Filed 2-19-20; 8:45 am]

BILLING CODE P